DEPARTMENT OF THE INTERIOR

Bureau of Land Management

[LLMTL01000-L161000000.PN0000; MO #4500146072; MTM-89170-01]

Notice of Proposed Withdrawal and Notification of Public Meeting, Montana

AGENCY: Bureau of Land Management, Interior.

ACTION: Notice of proposed withdrawal.

SUMMARY: The Department of the Interior proposes to withdraw 2,688.13 acres of public lands in Phillips County, Montana, from location or entry under the United States mining laws, but not from the mineral leasing or the mineral materials disposal laws for up to 20 years, subject to valid existing rights, to protect the Zortman-Landusky Mine reclamation site. The proposed 20-year withdrawal, if established, would replace the existing 5-year withdrawal created by Public Land Order (PLO) 7464, as extended three times, and which will expire October 4, 2020. Publication of this notice segregates the lands for up to 2 years from location or entry under the United States mining laws, subject to valid existing rights, while the application is being processed. This notice also announces to the public the opportunity to comment on the proposed withdrawal application and to participate in a virtual public meeting.

DATES: Comments must be received by January 5, 2021. The Bureau of Land Management (BLM) will hold a virtual public meeting in connection with the proposed withdrawal on December 7, 2020, at 6:30 p.m. The BLM will publish instructions on how to access the online public meeting in the Lewistown News—Argus (Lewistown), Havre Daily News (Havre), and Phillips County News (Malta) newspapers a minimum of 30 days prior to the meeting.

ADDRESSES: All comments should be sent to: Malta Field Office, Attn: Field Manager, 501 South 2nd St. East, Malta, Montana 59538; or sent by email to mrlee@blm.gov. The BLM will not consider comments received via telephone.

FOR FURTHER INFORMATION CONTACT: Micah Lee, Realty Specialist, BLM, at 406-262-2851; or by email at mrlee@blm.gov. Persons who use a telecommunications device for the deaf (TDD) may call the Federal Relay Service (FRS) at 1-800-877-8339 to leave a message or question for Ms. Lee. The FRS is available 24 hours a day, 7 days a week, to leave a message or question. You will receive a reply during normal business hours.

SUPPLEMENTARY INFORMATION: The BLM filed a petition and application to withdraw, subject to valid existing rights, 2,688.13 acres of land located in Phillips County, Montana, from location or entry under the United States mining laws (30 U.S.C. Ch. 2), but not from the mineral leasing or mineral materials disposal laws, for 20 years, to protect the Zortman-Landusky Mine area and facilitate reclamation and stabilization within the following legal description.

Principal Meridian, Montana

T. 25 N., R. 24 E.,

Sec. 10, lots 7 thru 11 and NE¼SE¼;

Sec. 11, lot 8;

Sec. 12, lots 8, 20, 23, and 24 and SE¼SW¼;

Sec. 13, W½NW¼;

Sec. 14, lots 1 and 2, lots 4 thru 11, E½NE¼, SW¼NE¼, and N½SE¼;

Sec. 15, lots 4 thru 18;

Sec. 21, SE¼NE¼, NE¼SE¼, and W½SE¼SE¼;

Sec. 22, lot 1, lots 3 thru 7, SE¼NE¼, W½NW¼, N½SW¼, NE¼SW¼SW¼, N½SE¼SW¼, and NW¼SE¼;

Sec. 23, W½NE¼ and NW¼.

T. 25 N., R. 25 E.,

Sec. 7, lots 5 thru 9, lots 14, 17, 18, 22, 23, 24, and 26, lots 28 thru 32, and NW¼NE¼;

Sec. 8, SW¼SW¼;

Sec. 17, lots 3 and 4, NW¼NE¼, S½NE¼, E½NW¼, N½NE¼NE¼SE¼, N½NW¼NE¼SE¼, N½NE¼NW¼SE¼, and N½NW¼NW¼SE¼;

Sec. 18, lots 2 thru 5, lots 9, 10, 13, and 14, and SW¼NE¼.

The areas described aggregate 2,688.13 acres.

The Secretary of the Interior approved the BLM' s petition/application. Therefore, the petition/application constitutes a withdrawal proposal of the Secretary of the Interior (43 CFR 2310.1-3(e)).

The purpose of the proposed withdrawal is to continue the protection of the lands provided by PLO 7464, as extended, and to facilitate reclamation in the Zortman-Landusky Mine reclamation area.

The use of a right-of-way, interagency agreement, or cooperative agreement would not adequately constrain non-discretionary uses and would not provide adequate protection of the Federal investment in the mine reclamation work located on the lands.

There are no suitable alternative sites available where the withdrawal would facilitate mine reclamation since the location of the mines and necessary reclamation materials are fixed.

No water rights would be needed to fulfill the purpose of the requested withdrawal.

Before including your address, phone number, email address, or other personal identifying information in your comment, you should be aware that your entire comment, including your personal identifying information, may be made publicly available at any time. While you can ask us in your comment to withhold your personal identifying information from public review, we cannot guarantee that we will be able to do so.

Notice is hereby given that a virtual (online) public meeting in connection with the withdrawal application and segregation will be held on December 7, 2020, at 6:30 p.m. The BLM will publish a notice of the time and online venue in a local newspaper a minimum of 15 days before the scheduled date of the meeting. The BLM will prepare an environmental assessment to evaluate the proposed withdrawal and any alternatives in order to make a recommendation to the Secretary of the Interior (or appropriate Departmental official).

For a period until October 7, 2022, the public lands described in this notice will be segregated from location or entry under the United States mining laws, but not from the mineral leasing or mineral materials disposal laws, subject to valid existing rights, unless the application is denied or canceled or the withdrawal is approved prior to that date.

Licenses, permits, cooperative agreements, or discretionary land use authorizations of a temporary nature that will not significantly impact the values to be protected by the withdrawal may be allowed with the approval of the authorized officer of the BLM during the temporary segregation period.

The application will be processed in accordance with the regulations set forth in 43 CFR part 2300.

Dated: October 1, 2020.
David L. Bernhardt,
Secretary of the Interior.

[FR Doc. 2020-22313 Filed 10-5-20; 4:15 pm]

BILLING CODE 4310-DN-P